SECURITIES AND EXCHANGE COMMISSION

[File No. 500-1]

E-Pawn.com, Inc.; Order of Suspension of Trading

June 14, 2000.

It appears to the Securities and Exchange Commission that there is a lack of current and accurate information concerning the securities of E-Pawn.com, Inc. (“E-Pawn”) because of questions regarding the accuracy of assertions by E-Pawn, and by others, in documents sent to and statements made to market makers of the stock of E-Pawn, other broker-dealers, and to investors concerning, among other things, the identity of the persons in control of the operations and management of the company. In addition, recent market activity in E-Pawn securities may be the result of manipulative conduct or other illegal activity.

The Commission is of the opinion that the public interest and the protection of investors require a suspension of trading in the securities of the above listed company.

Therefore, it is ordered, pursuant to section 12(k) of the Securities Act of 1934, that trading in the above listed company is suspended for the period from 9:30 a.m. EDT, June 14, 2000 through 11:59 p.m. EDT, on June 27, 2000.

By the Commission.
Margaret H. McFarland,
Deputy Secretary.

[FR Doc. 00-15444 Filed 6-14-00; 5:08 pm]

BILLING CODE 8010-01-M